DEPARTMENT OF ENERGY

Federal Energy Regulatory Commission

[Docket Nos. CP88-391-029 and RP93-162-014]

Transcontinental Gas Pipe Line Corporation; Notice of Annual Cash-Out Filing

December 16, 2003.

Take notice that on November 24, 2003, Transcontinental Gas Pipe Line Corporation (Transco), filed its annual cash-out report for the period August 1, 2002 through July 31, 2003. Transco states that the report was filed to comply with the cash-out provisions in Section 15 of the General Terms and Conditions (GT&C) of Transco's FERC Gas Tariff.

Any person desiring to protest said filing should file a protest with the Federal Energy Regulatory Commission, 888 First Street, NE., Washington, DC 20426, in accordance with section 385.211 of the Commission's Rules and Regulations. All such protests must be filed on or before the date as indicated below. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: December 22, 2003.

Magalie R. Salas,
Secretary.

[FR Doc. E3-00622 Filed 12-23-03; 8:45 am]

BILLING CODE 6717-01-P